DEPARTMENT OF HEALTH AND HUMAN SERVICES

Administration for Children and Families

Submission for OMB Review; Comment Request

Title: Child Support Noncustodial Parent Employment Demonstration (CSPED).

OMB No.: 0970—NEW.

Description: The Office of Child Support Enforcement (OCSE) within the Administration for Children and Families (ACF) is proposing data collection activity as part of the Child Support Noncustodial Parent Employment Demonstration (CSPED). In October 2012, OCSE issued grants to eight state child support agencies to provide employment, parenting, and child support services to noncustodial parents who are having difficulty meeting their child support obligation. The overall objective of the CSPED evaluation is to document and evaluate the effectiveness of the approaches taken by these eight CSPED grantees. This evaluation will yield information about effective strategies for improving child support payments by providing noncustodial parents employment and other services through child support programs. It will generate extensive information on how these programs operated, what they cost, the effects the programs had, and whether the benefits of the programs exceed their costs. The information gathered will be critical to informing decisions related to future investments in child support-led employment-focused programs for noncustodial parents who have difficulty meeting their child support obligations.

The CSPED evaluation will include the following two interconnected components or “studies”:

1. Implementation and Cost Study. The goal of the implementation and cost study is to provide a detailed description of the programs—how they are implemented, their participants, the contexts in which they are operated, their promising practices, and their costs. The detailed descriptions will assist in interpreting program impacts, identifying program features and conditions necessary for effective program replication or improvement, and carefully documenting the costs of delivering these services. Key activities of the implementation and cost study will include: (1) Conducting semi-structured interviews with program staff and selected community partner organizations to gather information on program implementation and costs; (2) conducting focus groups with program participants to elicit participation experiences; (3) administering a web-based survey to program staff and community partners to capture broader staff program experiences; and (4) collecting data on study participant service use, dosage, and duration of enrollment throughout the demonstration using a web-based Management Information System (MIS).

2. Impact Study. The goal of the impact study is to provide rigorous estimates of the effectiveness of the eight programs using an experimental research design. Program applicants who are eligible for CSPED services will be randomly assigned to either a program group that is offered program services or a control group that is not. The study MIS that will document service use for the implementation study will also be used by grantee staff to conduct random assignment for the impact study. The impact study will rely on data from surveys of participants, as well as administrative records from state and county data systems. Survey data will be collected twice from program applicants. Baseline information will be collected from all noncustodial parents who apply for the program prior to random assignment. A follow-up survey will be collected from sample members twelve months after random assignment. A wide range of measures will be collected through surveys, including measures of employment stability and quality, barriers to employment, parenting and co-parenting, and demographic and socio-economic characteristics. In addition, data on child support obligations and payments, Temporary Assistance for Needy Families (TANF) and Supplemental Nutrition Assistance Program (SNAP) benefits, Medicaid receipt, involvement with the criminal justice system, and earnings and benefit data collected through the Unemployment Insurance (UI) system will be obtained from state and county databases.

A 60-Day Federal Register Notice was published for this study on January 11, 2013. This 30-Day Federal Register Notice covers the following data collection activities: (1) Topic guides for semi-structured interviews with program staff and community partners, (2) focus group guides for program participants, (3) the web-based survey to document program staff and partner experiences, (4) the Management Information System (MIS) functions for tracking participation in the program, (5) an introductory script which program staff will use to introduce the study to participants, (6) the baseline survey used to capture participant characteristics prior to randomization, (7) the MIS functions for conducting random assignment, and (8) the extraction of child support, benefit, earnings, and criminal justice data extracted from state and county administrative data systems.

Respondents: Respondents include program applicants, study participants, grantee staff and community partners, as well as state and county staff responsible for extracting data from government databases for the evaluation. Specific respondents per instrument are noted in the burden table below.

Annual Burden Estimates

The following tables provide the burden estimates for the implementation and cost study and the impact study components of the current request.

Implementation and Cost Study
Instrument | Number of respondents | Number of responses per respondent | Average burden hours per response | Total burden hours
Staff interview topic guide with program staff and community partners | 120 | 2 | 1 | 240
Focus group guide with program participants | 240 | 1 | 1.5 | 360
Web survey of program staff and community partners | 200 | 2 | 0.5 | 200
Study MIS for grantee and partner staff to track program participation | 200 | 1,500 | 0.0333 | 10,000

Impact Study
Instrument | Number of respondents | Number of responses per respondent | Average burden hours per response | Total burden hours
Introductory script:
Grantee staff | 120 | 105 | 0.1667 | 2,100
Program applicants ¹ | 12,600 | 1 | 0.1667 | 2,100
Baseline survey of study participants | 12,000 | 1 | 0.5833 | 7,000
Study MIS used by program staff to conduct random assignment | 120 | 105 | 0.1667 | 2,100
Protocol for collecting administrative records | 32 | 2 | 8 | 512
¹ Five percent of program applicants are not expected to agree to participate in the study; thus there are 5% more program applicants than study participants.

Estimated Total Annual Burden Hours: 8,204.

Additional Information: In compliance with the requirements of Section 3506(c)(2)(A) of the Paper Work Reduction Act of 1995, the Administration for Children and Families is soliciting public comment on the specific aspects of the information collection described above. Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2013-09797 Filed 4-24-13; 8:45 am]

BILLING CODE 4184-01-P